DEPARTMENT OF AGRICULTURE

Grain Inspection, Packers and Stockyards Administration

9 CFR Part 205

RIN 0580-AA93

Clear Title; Technical Changes

AGENCY: Grain Inspection, Packers and Stockyards Administration, USDA.

ACTION: Affirmation of interim rule as final rule.

SUMMARY: We are adopting as a final rule, with change, an interim rule that amended Clear Title regulations to allow States to use an approved unique identifier as an alternative to a social security number or taxpayer identification number in their systems providing clear title information. The change to the interim rule meets the express statutory requirement that an approved unique identifier be numerically organized on master lists. We are making additional changes to the clear title regulations as required by the amendments made by the 2002 Farm Bill. The primary effect of these changes will be to protect the identity of the producers of farm products. Secondary effects of the technical changes will be to improve the operation of the program and provide the States with more flexibility.

DATES: Effective May 8, 2007, we are confirming as final with change, the interim rule published on September 27, 2006 (71 FR 56338). That rule became effective on September 27, 2006.

FOR FURTHER INFORMATION CONTACT: Gary McBryde, GIPSA, USDA, 1400 Independence Avenue, Room 2430, Washington, DC 20250-3604; (202) 720-5552.

SUPPLEMENTARY INFORMATION:

Background

In an interim rule effective September 27, 2006, and published in the Federal Register on September 27, 2006 (71 FR 56338), we amended the regulations in “Subpart—Clear Title-Protection for Purchases of Farm Products” (9 CFR 205 205.1-205.210) for the privacy protection of certain sellers of farm products to allow States to use “other approved unique identifier” as an alternative to a social security number or taxpayer identification number in their systems providing clear title information. The amendment clarified that an “approved unique identifier” means “a number, combination of numbers and letters, or other identifier selected by the Secretary of State using a selection system or method approved by the Secretary of Agriculture.”

We solicited comments concerning the interim rule. We received two comments as a result of publishing the interim final rule. The comments indicated that not only were Social Security Numbers unwarranted and unneeded, but also that unique identifiers were not needed. We consider the comments to be directed towards the current Act, not the regulations providing guidance on implementation of the amended Act.

However, we are making one change to the interim rule to further clarify and better reflect the statutory text. The interim rule definition of “approved unique identifier” is changed to “a combination of numbers selected by the Secretary of State using a selection system or method approved by the Secretary of Agriculture.” The change to the interim rule meets the express statutory requirement in section 1324(c)(2)(C) of the amended Food Security Act of 1985 that an approved unique identifier be numerically organized on master lists. The definition in the interim rule would have permitted, contrary to the statutory text, an identifier that may not have been able to be numerically organized in the master list.

This final rule also affirms the information contained in the interim rule concerning Executive Order 12372 and 12988, and the Paperwork Reduction Act.

Further, for this action, the Office of Management and Budget has waived its review under Executive Order 12866.

List of Subjects in 9 CFR Part 205

Agricultural commodities, Archives and records, Intergovernmental relations, Reporting and recordkeeping requirements.

Accordingly, the interim rule that amended 9 CFR part 205 and that was published at 71 FR 56338 on September 27, 2006, is adopted with the following change:

PART 205—CLEAR TITLE PROTECTION FOR PURCHASES OF FARM PRODUCTS

1. Amend § 205.1 by revising the definition of “approved unique identifier” to read as follows:

§ 205.1 Definitions

* * * * *

Approved Unique Identifier means a combination of numbers selected by the Secretary of State using a selection system or method approved by the Secretary of Agriculture.

Alan Christian,
Acting Administrator, Grain Inspection, Packers and Stockyards Administration.

[FR Doc. E7-8794 Filed 5-7-07; 8:45 am]

BILLING CODE 3410-KD-P